DEPARTMENT OF HEALTH AND HUMAN SERVICES

Food and Drug Administration

[FDA 225-04-4001]

Memorandum of Understanding Between the Food and Drug Administration and Customs and Border Protection, Department of Homeland Security

AGENCY: Food and Drug Administration, HHS.

ACTION: Notice.

SUMMARY: The Food and Drug Administration (FDA) is providing notice of a memorandum of understanding (MOU) between the Food and Drug Administration and Customs and Border Protection (CBP), Department of Homeland Security to allow FDA to commission CBP officers.

DATES: The agreement became effective December 3, 2003.

FOR FURTHER INFORMATION CONTACT: Deborah Ralston, Office of Regional Operations (HFC-100), Food and Drug Administration, 5600 Fishers Lane, Rockville, MD 20857, 301-443-6230.

SUPPLEMENTARY INFORMATION: In accordance with 21 CFR 20.108(c), which states that all written agreements and MOUs between FDA and others shall be published in the Federal Register, the agency is publishing notice of this MOU.

Dated: December 29, 2003.
Jeffrey Shuren,
Assistant Commissioner for Policy.

BILLING CODE 4160-01-S

[FR Doc. 04-260 Filed 1-6-04; 8:45 am]

BILLING CODE 4160-01-C